DEPARTMENT OF TRANSPORTATION

Coast Guard

33 CFR Part 117

[CGD07-01-052]

Drawbridge Operation Regulations; Florida East Coast Railroad Bridge, St. Johns River, Jacksonville, FL

AGENCY: Coast Guard, DOT.

ACTION: Notice of temporary deviation from regulations; request for comments.

SUMMARY: The Commander, Seventh Coast Guard District, has approved a temporary deviation from the regulations governing the operation of the Florida East Coast Railroad Bridge across the St. Johns River, mile 24.9, Jacksonville, Florida. This test deviation removes the automated tender and requires the bridge owner or operator to post a live bridge-tender (Control Operator) to control the bridge openings. This test period will begin at 8 a.m., on August 2, 2001 and terminate at 4 p.m., August 31, 2001. The test data will be compiled utilizing bridge logs.

DATES: This deviation is effective from 8 a.m., August 2, 2001 to 4 p.m., August 31, 2001. Comments must be received by September 30, 2001.

ADDRESSES: You may mail comments and related material to Commander (obr), Seventh Coast Guard District, 909 S.E. 1st Avenue, Miami, FL 33131. Comments and material received from the public, as well as documents indicated in this preamble as being available in the docket, will become part of this docket and will be available for inspection or copying at Commander (obr), Seventh Coast Guard District, 909 S.E. 1st Avenue, Miami, FL 33131 between 7:30 a.m. and 4 p.m., Monday through Friday, except Federal Holidays.

FOR FURTHER INFORMATION CONTACT: Mr. Barry Dragon, Chief, Operations Section, Seventh Coast Guard District, Bridge Section at (305) 415-6743.

SUPPLEMENTARY INFORMATION: The Federal East Coast Railroad Bridge across the St. Johns River at Jacksonville, is a single leaf bridge with a vertical clearance of 9 feet above mean high water (MHW) measured at the fenders in the closed position with a horizontal clearance of 195 feet. The current operating regulation in 33 CFR 117.325(c) allows the draw to operate as an automated railroad bridge.

On May 1, 2001, the drawbridge owner requested a deviation from the current operating regulations to allow the owner to conduct a study to determine if the removal of the automation of this bridge will improve navigational safety for vessels, and increase efficiency of rail traffic.

The District Commander has granted a temporary deviation from the operating requirements listed in 33 CFR 117.325(c) for the purpose of conducting this study. Under this deviation, the Florida East Coast Railroad Bridge shall open on signal and a radiotelephone shall be maintained at the bridge for safety of navigation. The draw will close when a train approaches and remain closed for the passage of the train for a period of not more than sixteen minutes. The draw may be allowed to remain in the last used position until the next passage of a vessel or train. The deviation is effective from 8 a.m., August 2, 2001, to 4 p.m., August 31, 2001.

Request for Comments

We encourage you to participate in this rulemaking of the test schedule by submitting comments and related material. If you do so, please include your name and address, identify the docket number for this deviation [CGD07-01-052], indicate the specific section of this document to which each comment applies, and give the reason for each comment. Please submit all comments and related material in an unbound format, no larger than 8½ by 11 inches, suitable for copying. If you would like to know if they reached us, please enclose a stamped, self-addressed postcard or envelope. We will consider all comments and material received during the comment period. The comment period will end on September 30, 2001.

Dated: July 2, 2001.
Greg E. Shapley,
Chief, Bridge Administration, Seventh Coast Guard District.

[FR Doc. 01-17386 Filed 7-10-01; 8:45 am]

BILLING CODE 4910-15-P